ENVIRONMENTAL PROTECTION AGENCY

[FRL-7821-9]

Gulf of Mexico Program Citizens Advisory Committee Meeting

AGENCY: Environmental Protection Agency (EPA).

ACTION: Notice of meeting.

SUMMARY: Under the Federal Advisory Committee Act (Public Law 92-463), EPA gives notice of a meeting of the Gulf of Mexico Program (GMP) Citizens Advisory Committee (CAC).

DATES: The meeting will be held on Tuesday, October 26, 2004, from 8:30 a.m. to 4:45 p.m.; Wednesday, October 27, 2004, from 10 a.m. to 5 p.m.; and Thursday, October 28, 2004, from 8:30 a.m. to 3:30 p.m.

ADDRESSES: The meeting will be held at the Hotel Monteleone, 214 Royal Street, New Orleans, LA 70130 (504-523-3341).

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Election of CAC Officers; participation in GMP Management Committee Meeting; participation in Comprehensive Meeting of the GMP Focus Teams (Nutrient Enrichment, Habitat, Public Health, Monitoring/Modeling/Research, Communications).

The meeting is open to the public.

Dated: September 22, 2004.
Gloria D. Car,
Designated Federal Officer.

[FR Doc. 04-21807 Filed 9-28-04; 8:45 am]

BILLING CODE 6560-50-M